DEPARTMENT OF AGRICULTURE

Natural Resources Conservation Service

Notice of Proposed Changes to the Natural Resources Conservation Service's National Handbook of Conservation Practices

AGENCY: Natural Resources Conservation Service (NRCS), USDA.

ACTION: Notice of availability of proposed changes in the NRCS National Handbook of Conservation Practices for public review and comment.

SUMMARY: Notice is hereby given of the intention of NRCS to issue 21 new or revised conservation practice standards in its National Handbook of Conservation Practices. These standards include: Amendments for Treatment of Agricultural Waste (Code 591), Early Successional Habitat Development (Code 647), Firebreak (Code 394), Fuel Break (Code 383), Land Reclamation, Toxic Discharge Control (Code 455), Residue and Tillage Management—Mulch Till (Code 345), Residue and Tillage Management—No Till/Strip Till/Direct Seed (Code 329), Residue and Tillage Management—Ridge Till (Code 346), Restoration and Management of Declining Habitats (Code 643), Riparian Herbaceous Cover (Code 390), Shallow Water Management for Wildlife (Code 646), Slash Treatment (Code 384), Streambank and Shoreline Protection (Code 580), Solid/Liquid Waste Separation Facility (Code 632), Upland Wildlife Habitat Management (Code 645), Use Exclusion (Code 472), Waste Treatment (Code 629), Wetland Creation (Code 658), Wetland Enhancement (Code 659), Wetland Restoration (Code 657), and Wetland Wildlife Habitat Management (Code 644). NRCS State Conservationists who choose to adopt these practices for use within their States will incorporate them into Section IV of their respective electronic Field Office Technical Guides. These practices may be used in conservation systems that treat highly erodible land, or on land determined to be wetland.

DATES: Effective Dates: Comments will be received for a 30-day period commencing with this date of publication. This series of new or revised conservation practice standards will be adopted after the close of the 30-day period.

FOR FURTHER INFORMATION CONTACT: Copies of these standards can be downloaded or printed from the following Web site: ftp://ftp-fc.sc.egov.usda.gov/NHQ/practice-standards/federal-register/. Single copies of these standards are also available from NRCS in Washington, DC. Submit individual inquiries in writing to Daniel Meyer, National Agricultural Engineer, Natural Resources Conservation Service, P.O. Box 2890, Room 6139-S, Washington, DC 20013-2890.

SUPPLEMENTARY INFORMATION: Section 343 of the Federal Agriculture Improvement and Reform Act of 1996 requires NRCS to make available, for public review and comment, proposed revisions to conservation practice standards used to carry out the highly erodible land and wetland provisions of the law. For the next 30 days, NRCS will receive comments relative to the proposed changes. Following that period, a determination will be made by NRCS regarding disposition of those comments, and a final determination of changes will be made.

Signed in Washington, DC, on January 24, 2005.
Bruce I. Knight,
Chief, Natural Resources Conservation Service.

[FR Doc. 05-1745 Filed 1-28-05; 8:45 am]

BILLING CODE 3410-16-P